DEPARTMENT OF COMMERCE

International Trade Administration

[A-351-842]

Certain Uncoated Paper From Brazil: Final Results of Antidumping Duty Changed Circumstances Review

AGENCY: Enforcement and Compliance, International Trade Administration, Department of Commerce.

SUMMARY: On November 26, 2021, the Department of Commerce (Commerce) published the initiation and preliminary results of a changed circumstances review (CCR) of the antidumping duty (AD) order on certain uncoated paper (uncoated paper) from Brazil. For these final results, Commerce continues to find that Sylvamo do Brasil Ltda. (SVBR) is the successor-in-interest to International Paper do Brasil Ltda. (IP) and that Sylvamo Exports Ltda. (SVEX) is the successor-in-interest to International Paper Exportadora Ltda. (IPEX). Furthermore, SVBR and SVEX (collectively, Sylvamo) should be assigned the same AD cash deposit rate assigned to IP and IPEX (collectively, International Paper) for purposes of determining AD liability in this proceeding.

DATES: Applicable January 11, 2022.

FOR FURTHER INFORMATION CONTACT: Christopher Maciuba, AD/CVD Operations, Office V, Enforcement and Compliance, International Trade Administration, U.S. Department of Commerce, 1401 Constitution Avenue NW, Washington, DC 20230; telephone: (202) 482-5831.

SUPPLEMENTARY INFORMATION:

Background

On November 26, 2021, Commerce published the Initiation and Preliminary Results,¹ finding that Sylvamo is the successor-in-interest to International Paper ² and should be assigned the same AD cash deposit rate assigned to International Paper in this proceeding.³ In the Initiation and Preliminary Results, we provided all interested parties with an opportunity to comment and request a public hearing regarding our preliminary finding.⁴ We received no comments or requests for a public hearing from interested parties.

¹ See Certain Uncoated Paper from Brazil: Notice of Initiation and Preliminary Results of Antidumping Duty Changed Circumstances Review, 86 FR 67438 (November 26, 2021) (Initiation and Preliminary Results) and accompanying Preliminary Decision Memorandum.

² During the underlying less-than-fair-value (LTFV) investigation, Commerce determined that IP and IPEX constituted a single entity for purposes of the AD order. See Certain Uncoated Paper from Brazil: Final Determination of Sales at Less Than Fair Value, 81 FR 3115, 3116 (January 20, 2016). In subsequent cases, we have referred to them, collectively, as International Paper. See, e.g., Certain Uncoated Paper from Brazil: Final Results of Antidumping Duty Administrative Review; 2018-2019, 86 FR 7254 (January 27, 2021) (Brazil Paper 2018-2019). Given that Commerce previously determined that International Paper represented a single entity—and in light of the fact that we find continuity of operations following the corporate structure changes to SVBR/SVEX—we intend to similarly treat Sylvamo as a single entity for cash deposit purposes.

³ See Initiation and Preliminary Results, 86 FR 67438.

⁴ Id., 86 FR 67439.

Scope of the Order ⁵

⁵ See Certain Uncoated Paper from Australia, Brazil, Indonesia, the People's Republic of China, and Portugal: Amended Final Affirmative Antidumping Determinations for Brazil and Indonesia and Antidumping Duty Orders, 81 FR 11174 (March 3, 2016) (Order).

The merchandise covered by the scope of the Order is certain uncoated paper. For a complete description of the scope of the Order, see the Preliminary Decision Memorandum.

Final Results of the Changed Circumstances Review

For the reasons stated in the Initiation and Preliminary Results, and because we received no comments from interested parties to the contrary, Commerce continues to find that Sylvamo is the successor-in-interest to International Paper and should be assigned the same AD cash deposit rate assigned to International Paper in this proceeding. As a result of this determination, we find that Sylvamo should receive the cash deposit rate previously assigned to International Paper in the most recently completed review of the Order covering International Paper. The most recent cash deposit rate assigned to International Paper was 20.80 percent ad valorem.⁶ Consequently, Commerce will instruct U.S. Customs and Border Protection to suspend liquidation of all shipments of subject merchandise exported by Sylvamo and entered, or withdrawn from warehouse, for consumption on or after the publication date of this notice in the Federal Register at 20.80 percent ad valorem. This cash deposit requirement shall remain in effect until further notice.

⁶ See Brazil Paper 2018-2019, 86 FR 7254.

Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216 and 351.221(c)(3).

Dated: January 4, 2022.
Ryan Majerus,
Deputy Assistant Secretary for Policy and Negotiations, performing the non-exclusive functions and duties of the Assistant Secretary for Enforcement and Compliance.

[FR Doc. 2022-00315 Filed 1-10-22; 8:45 am]

BILLING CODE 3510-DS-P